DEPARTMENT OF DEFENSE

Office of the Secretary

Notice of Intent To Grant a Partially Exclusive License; BrandRank.AI

AGENCY: National Security Agency (NSA), Department of Defense (DoD).

ACTION: Notice of intent.

SUMMARY: The NSA hereby gives notice of its intent to grant BrandRank.AI a revocable, non-assignable, partially exclusive, license to practice the following Government-Owned invention as described and claimed in United States Patent Number, 8,799,339 Device for and Method of Measuring Similarity Between Sets.

DATES: Anyone wishing to object to the grant of this license has until November 14, 2024 to file written objections including evidence and argument that establish that the grant of the license would not be consistent with the requirements of 35 United States Code (U.S.C.) 209 and 37 Code of Federal Regulations (CFR) 404.7.

ADDRESSES: Written objections are to be filed with the National Security Agency Technology Transfer Program, 9800 Savage Road, Suite 6843, Fort George G. Meade, MD 20755-6843.

FOR FURTHER INFORMATION CONTACT: Karen D. Presley, Director, Technology Transfer Program, 9800 Savage Road, Suite 6843, Fort George G. Meade, MD 20755-6843, telephone (443) 634-3519.

SUPPLEMENTARY INFORMATION: The prospective partially exclusive license will comply with the terms and conditions of 35 U.S.C. 209 and 37 CFR 404.7. The patent rights in these inventions have been assigned to the United States Government as represented by the NSA.

Dated: October 25, 2024.
Aaron T. Siegel,
Alternate OSD Federal Register Liaison Officer, Department of Defense.

[FR Doc. 2024-25218 Filed 10-29-24; 8:45 am]

BILLING CODE 6001-FR-P